DEPARTMENT OF LABOR

Employment and Training Administration

Comment Request for Information Collection for ETA Form 232, Domestic Agricultural In-Season Wage Report and ETA Form 232-A, Wage Survey Interview Record, Extension with Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about ETA Form 232, Domestic Agricultural In-Season Wage Report and ETA Form 232-A, Wage Survey Interview Record, OMB Control No. 1205-0017, both of which expire July 31, 2013. These forms are used by the State Workforce Agencies to collect wage information from agricultural employers.

DATES: Written comments must be submitted to the office listed in the addresses section below on or before July 29, 2013.

ADDRESSES: Submit written comments to William L. Carlson, Ph.D., Administrator, Office of Foreign Labor Certification, Room C-4312, Employment & Training Administration, U.S. Department of Labor, 200 Constitution Avenue NW., Washington, DC 20210. Telephone number: 202-693-3010 (this is not a toll-free number). Individuals with hearing or speech impairments may access the telephone number above via TTY by calling the toll-free Federal Information Relay Service at 1-877-889-5627 (TTY/TDD). Fax: 202-693-2768. Email: ETA.OFLC.Forms@dol.gov subject line: ETA-232/232-A. A copy of the proposed information collection request (ICR) can be obtained by contacting the office listed above.

SUPPLEMENTARY INFORMATION:

I. Background

The information collection is required by the Wagner-Peyser Act, codified at 20 CFR part 653, which covers the requirements for the acceptance and handling of intrastate and interstate job clearance orders seeking workers to perform agricultural or food processing work on a less than year-round basis. Section 653.501 states, in pertinent part, that employers must assure that the “wages and working conditions are not less than the prevailing wages and working conditions among similarly employed agricultural workers in the area of intended employment or the applicable Federal or State minimum wage, whichever is higher.”

The collection is also required by regulations for the temporary employment of alien agricultural workers in the United States (20 CFR, part 655, subpart B) promulgated under section 218 of the Immigration and Nationality Act (INA) as amended, which require employers to pay the workers at least the adverse effect wage rate in effect at the time the work is performed, the prevailing hourly wage rate, the agreed upon collective bargaining wage or the legal federal or State minimum wage rate, whichever is highest unless special procedures apply to the occupation. See 20 CFR 655.120(a).

The vehicle for establishing the prevailing wage rate is ETA Form 232, The Domestic Agricultural In-Season Wage Report. This Report contains the prevailing wage finding based on data collected by the States from employers in a specific crop area using the ETA Form 232-A, Wage Survey Interview Record.

In addition, the State Workforce Agencies (SWAs) collect information from agricultural employers to determine prevailing, normal, accepted or common employment practices for a specific occupational classification. The burden information for these prevailing practice determinations is currently accounted for in OMB Control Number 1205-0457, in which the SWAs report their overall activities to ETA for grant making purposes. However, ETA believes that the work required to determine the prevailing practice in an area of employment most logically correlates to the process used to determine the prevailing wages in an area of employment. Therefore, the Department is proposing to move that burden from OMB Control Number 1205-0457 to OMB Control Number 1205-0017 and has accounted for the burden in this collection.

II. Review Focus

The Department is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

In order to meet its statutory responsibilities under the INA, the Department needs to extend an existing collection of information pertaining to wage rates for various crop activities.

Type of Review: Revision

Title: Domestic Agricultural In-Season Wage Report and Wage Survey Interview Record

OMB Number: 1205-0017 and 1205-0457.

Affected Public: Private sector business or other for-profits and farms; and State, local, or tribal Governments.

Form(s): ETA-232 and ETA-232-A

Total Annual Respondents: 24,662

Annual Frequency: 129

Total Annual Responses: 27,658

Average Time per Response: 35 minutes

Estimated Total Annual Burden Hours: 16,227

Total Annual Burden Cost for Respondents: 0

Comments submitted in response to this comment request will be summarized and/or included in the request for OMB approval of the ICR; they will also become a matter of public record.

Dated: Signed in Washington, DC, on this 23rd day of May, 2013.
Jane Oates,
Assistant Secretary for Employment and Training, Labor.

[FR Doc. 2013-12851 Filed 5-29-13; 8:45 am]

BILLING CODE 4510-FP-P